DEPARTMENT OF THE TREASURY

Agency Information Collection Activities; Submission for OMB Review; Comment Request; Multiple IRS Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before April 26, 2018 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8142, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Internal Revenue Service (IRS)

1. Title: Mortgage Credit Certificates (MCCs).

OMB Control Number: 1545-0922.

Type of Review: Extension without change of a currently approved collection.

Abstract: Mortgage Credit Certificates provide qualified holders of the certificates with a credit against income tax liability. In general, an Issuer elects to establish a mortgage credit certificate program in lieu of issuing qualified mortgage revenue bonds. Section 25 of the Code permits states and political subdivisions to elect to issue Mortgage Credit Certificates in lieu of qualified mortgage revenue bonds. Form 8329 is used by lending institutions and Form 8330 is used by state and local governments to report on mortgage credit certificates (MCCs) authorized under IRC Section 25. IRS matches the information supplied by lenders and issuers to ensure that the credit is computed properly.

Form: 8329, 8330.

Affected Public: Businesses or other for-profits.

Estimated Total Annual Burden Hours: 73,720.

2. Title: TD 9099—Disclosure of Relative Values of Optional Forms of Benefit.

OMB Control Number: 1545-0928.

Type of Review: Extension without change of a currently approved collection.

Abstract: This document contains previously approved final regulations that consolidate the content requirements applicable to explanations of qualified joint and survivor annuities and qualified preretirement survivor annuities payable under certain retirement plans, and specify requirements for disclosing the relative value of optional forms of benefit that are payable from certain retirement plans in lieu of a qualified joint and survivor annuity. These regulations affect plan sponsors and administrators, and participants in and beneficiaries of, certain retirement plans.

Form: None.

Affected Public: Businesses or other for-profits.

Estimated Total Annual Burden Hours: 385,000.

3. Title: Form 8609, Low-Income Housing Credit Allocation Certification; Form 8609-A, Annual Statement for Low-Income Housing Credit.

OMB Control Number: 1545-0988.

Type of Review: Revision of a currently approved collection.

Abstract: Owners of residential low-income rental buildings may claim a low-income housing credit for each qualified building over a 10-year credit period. Form 8609 can be used to obtain a housing credit allocation from the housing credit agency. Form 8609, along with Form 8609-A, is used by the owner to certify necessary information required by the law. The private sector and government agencies, such as housing credit agencies, are affected groups.

Form: 8609, 8609-A.

Affected Public: Businesses or other for-profits.

Estimated Total Annual Burden Hours: 414,915.

4. Title: TD 8302—Low-Income Housing Credit for Federally-assisted Buildings.

OMB Control Number: 1545-1005.

Type of Review: Extension without change of a currently approved collection.

Abstract: These previously approved final regulations are for the rule requires the taxpayer (low-income building owner) to seek a waiver in writing from the IRS concerning low-income buildings acquired during a special 10-year period in order to avert a claim against a Federal mortgage insurance fund.

Form: None.

Affected Public: Businesses or other for-profits.

Estimated Total Annual Burden Hours: 3,000.

5. Title: Adjustments to Basis of Stock and Indebtedness to Shareholders of S Corporations and Treatment of Distributions by S Corporations to Shareholders (TD 9300) and Open Account Debt (TD 9428).

OMB Control Number: 1545-1139.

Type of Review: Extension without change of a currently approved collection.

Abstract: These previously approved regulations provide the procedures and the statements to be filed by S corporations for making the election provided under section 1368, and by shareholders who choose to reorder items that decrease their basis. Statements required to be filled will be used to verify that taxpayers are complying with the requirements imposed by Congress.

Form: None.

Affected Public: Businesses or other for-profits.

Estimated Total Annual Burden Hours: 450.

6. Title: CO-25-96 (TD 8824l) Limitations on Net Operating Loss Carryforwards and Certain Built-in Losses and Credits.

OMB Control Number: 1545-1218.

Type of Review: Extension without change of a currently approved collection.

Abstract: Section 1502 provides for the promulgation of previously approved regulations with respect to corporations that file consolidated income tax returns. Section 382 limits the amount of income that can be offset by loss carryovers and credits after an ownership change. These final regulations provide rules for applying section 382 to groups of corporations that file a consolidated return.

Form: None.

Affected Public: Businesses or other for-profits.

Estimated Total Annual Burden Hours: 662.

7. Title: Limitations on net operating loss carryforwards and certain built-in losses following ownership change.

OMB Control Number: 1545-1275.

Type of Review: Extension without change of a currently approved collection.

Abstract: 26 U.S.C. 382 limits the amount of the taxable income of any new loss corporation for any post-change year which may be offset by pre-change losses, for each such year. 26 CFR 1.382-9(d)(2)(iii) and (d)(4)(iv) allow a loss corporation to rely on a statement by beneficial owners of indebtedness in determining whether the loss corporation qualifies under section 382(l)(1)(5). Section 1.382-9(d)(6)(ii) requires a loss corporation to file an election if it wants to apply the regulations retroactively, or revoke a prior section 382(l)(1)(6) election.

Form: None.

Affected Public: Businesses or other for-profits.

Estimated Total Annual Burden Hours: 200.

8. Title: Methods to Determine Taxable Income in connection with a Cost Sharing Arrangement—IRC Section 482.

OMB Control Number: 1545-1364.

Type of Review: Extension without change of a currently approved collection.

Abstract: The purpose of Internal Revenue Code (IRC) section 482 is to ensure taxpayers clearly reflect income attributable to controlled transactions and to prevent avoidance of taxes regarding such transactions. IRC section 482 places a controlled taxpayer on tax parity with an uncontrolled taxpayer by determining true taxable income. Previously approved, TD 9568 (76 FR 80082) published December 22, 2011, contained final regulations regarding methods to determine taxable income in connection with a cost sharing arrangement under section 482 of the Internal Revenue Code. The final regulations address issues that had arisen in administering the cost sharing regulations. The final regulations affect domestic and foreign entities that enter into cost sharing arrangements described in the final regulations.

Form: None.

Affected Public: Businesses or other for-profits.

Estimated Total Annual Burden Hours: 9,350.

9. Title: T.D. 8537—Carryover of Passive Activity Losses and Credits and At Risk Losses to Bankruptcy Estates of Individuals.

OMB Control Number: 1545-1375.

Type of Review: Extension without change of a currently approved collection.

Abstract: This document contains previously approved final regulations relating to the application of carryover of passive activity losses and credits and at risk losses to the bankruptcy estates of individuals. The final regulations affect individual taxpayers who file bankruptcy petitions under chapter 7 or chapter 11 of title 11 of the United States Code and have passive activity losses and credits under section 469 or losses under section 465.

Form: None.

Affected Public: Businesses or other for-profits.

Estimated Total Annual Burden Hours: 100.

10. Title: EE-14-81 Deductions and Reductions in Earnings and Profits (or Accumulated Profits) With Respect to Certain Foreign Deferred Compensation Plans Maintained by Certain Foreign Corporations.

OMB Control Number: 1545-1393.

Type of Review: Extension without change of a currently approved collection.

Abstract: The previously approved regulation provides guidance regarding the limitations on deductions and adjustments to earnings and profits (or accumulated profits) for certain foreign deferred compensation plans. Respondents will be multinational corporations.

Form: None.

Affected Public: Businesses or other for-profits.

Estimated Total Annual Burden Hours: 634,450.

11. Title: TD 9199—Diesel Fuel and Kerosene Excise Tax; Dye Injection.

OMB Control Number: 1545-1418.

Type of Review: Extension without change of a currently approved collection.

Abstract: The previously approved regulations relate to the diesel fuel and kerosene excise tax and reflect changes made by the American Jobs Creation Act of 2004 (Act) regarding mechanical dye injection systems. Under the Act, diesel fuel and kerosene that are to be used in a nontaxable use must be indelibly dyed by use of a mechanical dye injection system that satisfies the requirements set forth in the regulations. However, Notice 2005-80 lifted the requirement for mechanical injection and because of this there is currently no requirement in the regulations for pre-approval by the IRS to inject dye into exempt fuel. The statutory requirement remains codified until such time they are finalized or removed. The burden has been adjusted accordingly.

Form: None.

Affected Public: Businesses or other for-profits.

Estimated Total Annual Burden Hours: 1.

12. Title: TD 8706 Electronic Filing of Form W-4.

OMB Control Number: 1545-1435.

Type of Review: Extension without change of a currently approved collection.

Abstract: This document contains previously approved final regulations relating to Form W-4, Employee's Withholding Allowance Certificate. The final regulations authorize employers to establish electronic systems for use by employees in filing their Forms W-4. The regulations provide employers and employees with guidance necessary to comply with the law. The regulations affect employers that establish electronic systems and their employees.

Form: None.

Affected Public: Businesses or other for-profits.

Estimated Total Annual Burden Hours: 40,000.

13. Title: TD 8881—General Revision of Regulations Relating to Withholding of Tax on Certain U.S. Source Income Paid to Foreign Persons.

OMB Control Number: 1545-1484.

Type of Review: Extension without change of a currently approved collection.

Abstract: This document contains previously approved regulations relating to the withholding of income tax under sections 1441, 1442, and 1443 on certain U.S. source income paid to foreign persons and related requirements governing collection, deposit, refunds, and credits of withheld amounts under sections 1461 through 1463. These regulations affect persons making payments of U.S. source income to foreign persons.

Form: None.

Affected Public: Businesses or other for-profits.

Estimated Total Annual Burden Hours: 1.

14. Title: Government Service Information.

OMB Control Number: 1545-1919.

Type of Review: Extension without change of a currently approved collection.

Abstract: Form 12854 is used to identify applicants who have had prior government service in order to request the official personnel folder from federal records and to identify possible pay-setting issues.

Form: 12854.

Affected Public: Individuals and households.

Estimated Total Annual Burden Hours: 6,203.

Authority: 44 U.S.C. 3501 et seq.

Dated: March 21, 2018.
Spencer W. Clark,
Treasury PRA Clearance Officer.

[FR Doc. 2018-06060 Filed 3-26-18; 8:45 am]

BILLING CODE 4830-01-P